DEPARTMENT OF DEFENSE

[Docket ID: DoD-2014-OS-0117]

Privacy Act of 1974; System of Records

AGENCY: Defense Health Agency, DoD.

ACTION: Notice to alter a system of records.

SUMMARY: The Defense Health Agency proposes to alter an existing system of records, EDHA 24, entitled “Defense and Veterans Eye Injury and Vision Registry (DVEIVR)” in its inventory of record systems subject to the Privacy Act of 1974, as amended. This system longitudinally collects and analyzes diagnoses, medical and surgical interventions, other treatments, and the results of eye injuries and/or visual dysfunctions/disorders incurred by members of the Armed Forces while serving on active duty; longitudinally collects from the Department of Veterans Affairs (VA) medical and rehabilitation treatment, surgical procedure, and/or outcome information about individuals who receive treatment from the Veterans Health Administration (VHA) and are listed in the DVEIVR to support readiness, enhance best practices, guide research, and inform policy; encourages and facilitates studies, and the development of best practices and clinical education, on eye injuries and/or visual dysfunctions/disorders incurred by members of the Armed Forces; supports collaborative DoD and VA programs that may provide vision screening, diagnosis, and rehabilitative management to those with eye injuries and/or visual dysfunctions/disorders, and guides vision research, at DoD medical treatment facilities and VA medical centers; and is a management tool for statistical analysis, longitudinal data collection, reporting, evaluating program effectiveness, guiding research, and informing policy.

DATES: Comments will be accepted on or before September 17, 2014. This proposed action will be effective on the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received should include the agency name and docket number for this Federal Register document. The general policy for comments and other submissions from members of the public is to make these submissions available for public viewing on the Internet at http://www.regulations.gov as they are received without change, including any personal identifiers or contact information.

FOR FURTHER INFORMATION CONTACT: Ms. Linda S. Thomas, Chief, Defense Health Agency Privacy and Civil Liberties Office, 7700 Arlington Boulevard, Suite 5101, Falls Church, VA 22042-5101, or by telephone at (703) 681-7500.

SUPPLEMENTARY INFORMATION: The Defense Health Agency notices for systems of records subject to the Privacy Act of 1974 (5 U.S.C. 552a), as amended, have been published in the Federal Register and are available from the address in FOR FURTHER INFORMATION CONTACT or at the Defense Privacy and Civil Liberties Office Web site http://dpclo.defense.gov/.

The proposed system report, as required by 5 U.S.C. 552a(r) of the Privacy Act of 1974, as amended, was submitted on June 24, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: August 13, 2014.
Aaron Siegel,
Alternate OSD Federal Register Liaison Officer, Department of Defense.

EDHA 24

System name:

Defense and Veterans Eye Injury and Vision Registry (DVEIVR), (November 18, 2013, 78 FR 69076)

Changes:

* * * * *

System location:

Delete entry and replace with “Primary location: Office of the Chief Information Officer/Enterprise Infrastructure, Defense Health Agency, 7700 Arlington Boulevard, Suite 5101, Falls Church, VA 22042-5101.

Secondary locations:

Department of Defense/Department of Veterans Affairs Vision Center of Excellence, 2900 Crystal Drive, Suite 210, Arlington, VA 22202-3557.

For a complete listing of all system locations, write to the system manager.”

Categories of individuals covered by the system:

Delete entry and replace with “Individuals who incurred an eye injury and/or visual dysfunction/disorder while serving as a member of the Armed Forces on active duty after September 10, 2001. This includes individuals with a visual dysfunction/disorder related to a traumatic brain injury, an eye injury resulting in a visual acuity in the injured eye of 20/200 or less, and/or a loss of peripheral vision resulting in 20 degrees or less of visual field in the injured eye.”

Categories of records in the system:

Delete entry and replace with “Records include the individual's full name; Department of Defense (DoD) Identification Number (DoD ID Number); date of birth; place of birth; date of death; gender; other names used; mailing address; email address; contact telephone numbers; marital status; race and ethnicity; citizenship; mother's maiden name; biometric information; service and employment information including rank, service branch, job category, operation, work location, and disability information; medical information including information on diagnosis, treatment, surgical interventions or other operative procedures, follow up services and treatment, visual outcomes, on-going eye care, visual rehabilitation benefits, services received, whether treatments, benefits, and services were provided on an inpatient or outpatient basis, inpatient service dates, and outpatient visit dates; and information on where the eye injury and/or visual dysfunction/disorder occurred. The name and phone number of the individual's alternative contacts and/or personal representatives will only be collected into the DVEIVR if available in the original record.”

Authority for maintenance of the system:

Delete entry and replace with “10 U.S.C. 1071, note, Sec. 1623, Center of Excellence in Prevention, Diagnosis, Mitigation, Treatment, and Rehabilitation of Military Eye Injuries; and 10 U.S.C. Chapter 55, Medical and Dental Care.”

Purpose(s):

Delete entry and replace with “To longitudinally collect and analyze diagnoses, medical and surgical interventions, other treatments, and the results of eye injuries and/or visual dysfunctions/disorders incurred by members of the Armed Forces while serving on active duty.

To longitudinally collect from the Department of Veterans Affairs (VA) medical and rehabilitation treatment, surgical procedure, and/or outcome information about individuals who receive treatment from the Veterans Health Administration (VHA) and are listed in the DVEIVR to support readiness, enhance best practices, guide research, and inform policy.

To encourage and facilitate studies, and the development of best practices and clinical education, on eye injuries and/or visual dysfunctions/disorders incurred by members of the Armed Forces.

To support collaborative DoD and VA programs that may provide vision screening, diagnosis, and rehabilitative management to those with eye injuries and/or visual dysfunctions/disorders, and to guide vision research, at DoD medical treatment facilities and VA medical centers.

Also used as a management tool for statistical analysis, longitudinal data collection, reporting, evaluating program effectiveness, guiding research, and informing policy.”

Routine uses of records maintained in the system, including categories of users and the purposes of such uses:

Delete entry and replace with “In addition to those disclosures generally permitted under 5 U.S.C. 552a(b) of the Privacy Act of 1974, as amended, these records may be specifically disclosed outside the DoD as a routine use pursuant to 5 U.S.C. 552a(b)(3) as follows:

To the VA, and Federal, state, and educational institutions to encourage and facilitate research, the development of best practices, and clinical education on eye injuries and/or visual dysfunctions/disorders incurred by members of the Armed Forces.

To the VA in order to inform the VA whether the VHA is providing medical treatment to an individual listed in the DVEIVR and allow the VA to transfer information pertaining to that individual's medical and rehabilitation treatments, surgical procedures, and/or outcomes into his or her DVEIVR record.

To the VA Blind Rehabilitation Service and the eye care services of the VHA to analyze the coordination of eye injury and/or visual dysfunction/disorder care and visual rehabilitation benefits and services, which may be provided by the VA after individuals are separated or released from the Armed Forces.

To the VA to coordinate eye injury and/or visual dysfunction/disorder care, and visual rehabilitation benefits and services, provided by the VA before and after individuals are separated or released from the Armed Forces.

The DoD Blanket Routine Uses may apply to this system of records.

Note: This system of records contains individually identifiable health information. The DoD Health Information Privacy Regulation (DoD 6025.18-R) or any successor DoD issuances implementing the Health Insurance Portability and Accountability Act of 1996 (HIPAA) and 45 CFR Parts 160 and 164, Health and Human Services, General Administrative Requirements and Security & Privacy, respectively, applies to most such health information. DoD 6025.18-R or a successor issuance may place additional procedural requirements on uses and disclosures of such information beyond those found in the Privacy Act of 1974, as amended, or mentioned in this system of records notice.”

* * * * *

Retrievability:

Delete entry and replace with “Records may be retrieved by the individual's name and DoD ID Number.”

Safeguards:

Delete entry and replace with “Physical access to system locations is restricted by cipher locks, visitor escort, access rosters, and photo identification. Adequate locks on doors and server components are secured in locked computer room(s) with limited access. Each system end user device is protected within a locked storage container, room, or building outside of normal business hours. All visitors and other persons who require access to facilities that house servers and other network devices supporting the system, but who do not have authorization for access, are escorted by appropriately screened/cleared personnel at all times.

Approved system users have role-based access to the system and, as appropriate, are provided role-based access to query the system for single patient look-up and reporting purposes. On a system level, all access is tracked to ensure that only appropriate and approved personnel have access to personally identifiable information and protected health information. System authentication requires either a Common Access Card or Personal Identity Verification Card and personal identification number or a unique logon identification and password. Passwords must be renewed every sixty (60) days. Authorized personnel must have appropriate Information Assurance, HIPAA, and Privacy Act of 1974 training.”

Retention and disposal:

Delete entry and replace with “Close an individual's records after the last episode of care; records are deleted 20 years after the last episode of care.”

System manager(s) and address:

Delete entry and replace with “Director of Technology, Department of Defense/Department of Veterans Affairs Vision Center of Excellence, 2900 Crystal Drive, Suite 210, Arlington, VA 22202-3557.”

Notification procedure:

Delete entry and replace with “Individuals seeking to determine whether information about themselves is contained in this system of records should address written inquiries to the Chief, Freedom of Information Act (FOIA) Service Center, Defense Health Agency Privacy and Civil Liberties Office, 7700 Arlington Boulevard, Suite 5101, Falls Church, VA 22042-5101.

Requests should contain the individual's full name, DoD ID Number, current address, telephone number, the name and number of this system of records notice, and be signed.”

Record access procedures:

Delete entry and replace with “Individuals seeking access to records about themselves contained in this system of records should address written inquiries to the Chief, FOIA Service Center, Defense Health Agency Privacy and Civil Liberties Office, 7700 Arlington Boulevard, Suite 5101, Falls Church, VA 22042-5101.

Requests should contain the individual's full name, DoD ID Number, current address, telephone number, the name and number of this system of records notice, and be signed.”

Contesting record procedures:

Delete entry and replace with “The Office of the Secretary of Defense (OSD) rules for accessing records, contesting contents, and appealing initial agency determinations are published in OSD Administrative Instruction 81; 32 CFR Part 311; or may be obtained from the system manager.”

Record source categories:

Delete entry and replace with “The Defense Enrollment Eligibility Reporting System; medical treatment records maintained at DoD military treatment facilities, VA medical care facilities, and rehabilitation facilities contracted by DoD and/or VA to perform medical care; VA Eye Injury Data Store (also called the VA Eye Injury Registry); the Clinical Data Repository; AHLTA; Theater Medical Data Store; Joint Theater Trauma Registry; the Pharmacy Data Transaction Service; the Service Medical Evaluation Boards; and the Combat Trauma Registry.”

* * * * *

[FR Doc. 2014-19561 Filed 8-15-14; 8:45 am]

BILLING CODE 5001-06-P